ENVIRONMENTAL PROTECTION AGENCY

40 CFR Part 300

[FRL-7923-7]

National Oil and Hazardous Substances Pollution Contingency Plan; National Priorities List

AGENCY: Environmental Protection Agency.

ACTION: Notice of Deletion of the Naval Magazine Indian Island Superfund Site, Port Hadlock from the National Priorities List.

SUMMARY: The Environmental Protection Agency (EPA) Region 10 announces the deletion of the Naval Magazine Indian Island Superfund Site, Port Hadlock, Washington, from the National Priorities List (NPL). The NPL is defined in Appendix B of 40 CFR part 300 which is the National Oil and Hazardous Substances Pollution Contingency Plan (NCP), which EPA promulgated pursuant to Section 105 of the Comprehensive Environmental Response, Compensation, and Liability Act of 1980 (CERCLA), as amended. EPA and the State of Washington have determined that the Site poses no significant threat to public health or the environment. All appropriate response actions have been implemented, therefore, no further remedial measures pursuant to CERCLA are appropriate.

DATES: Effective Date: June 14, 2005.

FOR FURTHER INFORMATION CONTACT: Nancy Harney, Remedial Project Manager, U.S. Environmental Protection Agency, Region 10, 1200 Sixth Avenue, ECL-111, Seattle, Washington 98101, (206) 553-6635.

SUPPLEMENTARY INFORMATION: The site to be deleted from the NPL is: Naval Magazine Indian Island, Port Hadlock, Washington. A Notice of Intent to Delete for this Site was published in the Federal Register on April 15, 2005 (70 FR 19915). The closing date for comments was May 16, 2005. No comments were received therefore, EPA has not prepared a Responsiveness Summary.

EPA identifies sites that appear to present a significant risk to public health, welfare, or the environment and it maintains the NPL as the list of those sites. Any site deleted from the NPL remains eligible for remedial actions in the unlikely that conditions at the site warrant such action. Deletion of a site from the NPL does not affect responsible party liability or impede agency efforts to recover costs associated with response efforts.

List of Subjects in 40 CFR Part 300

Environmental protection, Air pollution control, Chemicals, Hazardous substances, Hazardous waste, Intergovermental relations, Penalities, Reporting and recordkeeping requirements, Superfund, Water pollution control, Water supply.

Dated: May 31, 2005.
Julie M. Hagensen,
Acting Regional Administrator, Region 10.

For the reasons set out in the preamble, part 300 title 40 of Chapter 1 of the CFR, is amended as follows:

PART 300—[AMENDED]

1. The authority citation for part 300 continues to read as follows:

Authority: 42 U.S.C. 9601-9657; 33 U.S.C. 1321(c)(2); E.O. 12777, 56 FR 54757, 3 CFR, 1991 Comp., p.351; E.O. 12580.52 FR 2923.3 CFR, 1987 Comp., p.193.

Appendix B—[Amended]

2. Table 2 of Appendix B to part 300 is amended by removing the entry for the “Port Hadlock Detachment (USNAVY)”.

[FR Doc. 05-11720 Filed 6-13-05; 8:45 am]

BILLING CODE 6560-50-U